DEPARTMENT OF LABOR

Occupational Safety and Health Administration

[Docket No. NRTL-1-89]

Intertek Testing Services, NA, Inc., Application for Expansion of Recognition

AGENCY: Occupational Safety and Health Administration (OSHA), Labor.

ACTION: Notice.

SUMMARY: This notice announces the application of Intertek Testing Services, NA, Inc., for expansion of its recognition as a Nationally Recognized Testing Laboratory under 29 CFR 1910.7, and presents the Agency's preliminary finding. This preliminary finding does not constitute an interim or temporary approval of this application.

DATES: You may submit comments in response to this notice, or any request for extension of the time to comment, by (1) regular mail, (2) express or overnight delivery service, (3) hand delivery, (4) messenger service, or (5) FAX transmission (facsimile). Because of security-related problems there may be a significant delay in the receipt of comments by regular mail. Comments (or any request for extension of the time to comment) must be submitted by the following dates:

Regular mail and express delivery service: Your comments must be postmarked by January 21, 2003.

Hand delivery and messenger service: Your comments must be received in the OSHA Docket Office by January 21, 2003. OSHA Docket Office and Department of Labor hours of operation are 8:15 a.m. to 4:45 p.m.

Facsimile and electronic transmission: Your comments must be sent by January 21, 2003.

ADDRESSES: Regular mail, express delivery, hand-delivery, and messenger service: You must submit three copies of your comments and attachments to the OSHA Docket Office, Docket NRTL1-89, Room N-2625, U.S. Department of Labor, Occupational Safety and Health Administration, 200 Constitution Avenue, NW., Washington, DC 20210. Please contact the OSHA Docket Office at (202) 693-2350 for information about security procedures concerning the delivery of materials by express delivery, hand delivery and messenger service.

Facsimile: If your comments, including any attachments, are 10 pages or fewer, you may fax them to the OSHA Docket Office at (202) 693-1648. You must include the docket number of this notice, Docket NRTL1-89, in your comments.

Internet access to comments and submissions: OSHA will place comments and submissions in response to this notice on the OSHA Webpage http://www.osha.gov. Accordingly, OSHA cautions you about submitting information of a personal nature (e.g., social security number, date of birth). There may be a lag time between when comments and submissions are received and when they are placed on the Webpage. Please contact the OSHA Docket Office at (202)693-2350 for information about materials not available through the OSHA Webpage and for assistance in using the Webpage to locate docket submissions. Comments and submissions will also be available for inspection and copying at the OSHA Docket Office at the address above.

Extension of Comment Period: Submit requests for extensions concerning this notice to: Office of Technical Programs and Coordination Activities, NRTL Program, Occupational Safety and Health Administration, U.S. Department of Labor, Room N3653, 200 Constitution Avenue, NW., Washington, DC 20210. Or fax to (202) 693-1644.

FOR FURTHER INFORMATION CONTACT: Bernard Pasquet, Office of Technical Programs and Coordination Activities, NRTL Program, Room N3653 at the address shown immediately above for the program, or phone (202) 693-2110.

SUPPLEMENTARY INFORMATION:

Notice of Application

The Occupational Safety and Health Administration (OSHA) hereby gives notice that Intertek Testing Services, NA, Inc. (ITSNA), has applied for expansion of its current recognition as a Nationally Recognized Testing Laboratory (NRTL). ITSNA's expansion request covers the use of an additional testing site and additional test standards. OSHA's current scope of recognition for ITSNA may be found in the following informational web page: http://www.osha-slc.gov/dts/otpca/nrtl/its.html.

OSHA recognition of any NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications for initial recognition or for expansion or renewal of this recognition following requirements in Appendix A to 29 CFR 1910.7. This appendix requires that the Agency publish two notices in the Federal Register in processing an application. In the first notice, OSHA announces the application and provides its preliminary finding and, in the second notice, the Agency provides its final decision on an application. These notices set forth the NRTL's scope of recognition or modifications of this scope. We maintain an informational web page for each NRTL, which details its scope of recognition. These pages can be accessed from our Web site at http://www.osha-slc.gov/dts/otpca/nrtl/index.html.

The most recent notices published by OSHA for ITSNA's recognition covered an expansion of recognition to include an additional site, which became effective on January 28, 2002 (67 FR 3912).

The current address of the ITSNA facilities already recognized by OSHA are:

ITSNA Antioch, 2200 Wymore Way, Antioch, California 94509

ITSNA Atlanta, 1950 Evergreen Blvd., Suite 100, Duluth, Georgia 30096

ITSNA Boxborough, 70 Codman Hill Road, Boxborough, Massachusetts 01719

ITSNA Cortland, 3933 U.S. Route 11, Cortland, New York 13045

ITSNA Los Angeles, 27611 LaPaz Road, Suite C, Laguna Niguel, California 92677

ITSNA Madison, 8431 Murphy Drive, Middleton, Wisconsin 53562

ITSNA Minneapolis, 7250 Hudson Blvd., Suite 100, Oakdale, Minnesota 55128

ITSNA San Francisco, 1365 Adams Court, Menlo Park, CA 94025

ITSNA Sweden AB, Box 1103, S-164 #22, Kista, Stockholm, Sweden

ITSNA Totowa, 40 Commerce Way, Unit B, Totowa, New Jersey 07512

ITSNA Vancouver, 211 Schoolhouse Street, Coquitlam, British Columbia, V3K 4X9 Canada

ITSNA Hong Kong, 2/F., Garment Centre, 576 Castle Peak Road, Kowloon, Hong Kong

ITSNA Taiwan, 14/F., Huei Fung Building, 27, Chung Shan North Road, Sec. 3, Taipei 10451, Taiwan

The current address of the additional ITSNA testing site covered by the expansion application is:

ITSNA Lexington, 731 Enterprise Drive, Lexington, Kentucky 40510

General Background on the Applications

ITSNA has submitted an application, dated February 16, 2001 (see Exhibit 39), to expand its recognition to use 54 additional test standards and a site located in Lexington, Kentucky. The NRTL Program staff has determined that 13 of the 54 test standards cannot be included in the expansion because they either are not “appropriate test standards,” within the meaning of 29 CFR 1910.7(c), or are already included in ITSNA's scope. The staff makes similar determinations in processing expansion requests from any NRTL. Therefore, OSHA would approve 41 test standards for the expansion, which are listed below (see Expansion for Standards section).

Expansion for Additional Site

The application for the additional site contains information demonstrating that there are adequate procedures, equipment, and personnel to perform product safety testing. Those procedures are in general use throughout ITSNA's testing operations. Also, the application information shows that Lexington is wholly-owned and operated by ITSNA.

The NRTL Program staff performed an on-site review (assessment) of the facility on October 15-17, 2001. In the on-site review report, dated December 10, 2001 (see Exhibit 40), the program staff recommended a “positive finding,” which means a positive recommendation on the recognition to the Assistant Secretary. However, the Agency delayed processing of the applications pending resolution of certain findings made by OSHA during its audits of other ITSNA sites already recognized. The NRTL Program staff obtained information in October 2002, which resolved these findings, and determined that OSHA may proceed with processing the application.

OSHA's recognition of the additional site would not be limited to any particular test standards. However, recognition of this site would be limited to performing product testing only to the test standards for which the site has the proper capability and programs, and for which OSHA has recognized ITSNA. This treatment is consistent with the recognition that OSHA has granted to other NRTLs that operate multiple sites. The Agency would not recognize the site to issue certifications under ITSNA's NRTL operations. Currently, ITSNA issues such certifications only at specific sites listed above, and OSHA must review and accept the Lexington site before ITSNA issues certifications there. In addition, OSHA would permit the site to use all eight of the “supplemental” programs. ITSNA's scope of recognition already includes these programs.

OSHA has described the “supplemental” programs referred to above in a March 9, 1995, Federal Register notice (60 FR 12980, 3/9/95). This notice described nine (9) programs and procedures (collectively, programs), eight of which (the “supplemental programs”) any NRTL may use to control, audit, and accept the data relied upon for product certification. Such data is not normally generated at the NRTL's facility or by NRTL personnel. The notice also includes the criteria for the use by the NRTL of these eight, or supplemental, programs. Any NRTL's initial recognition will always include the first or basic program, which provides that all product testing and evaluation be performed in-house by the NRTL that will certify the product. OSHA does not consider these programs in determining whether any NRTL meets the requirements for recognition under 29 CFR 1910.7. However, these programs help to define the scope of that recognition.

Expansion for Additional Standards

ITSNA also seeks recognition for testing and certification of products for demonstration of conformance to the following 41 test standards, and OSHA has determined the standards are “appropriate,” within the meaning of 29 CFR 1910.7(c).

ANSI A17.5 Elevators and Escalator Electrical Equipment

ANSI C37.23* Metal Enclosed Bus and Calculating Losses in Isolated-Phase Bus

ANSI ICS 2 Industrial Control Devices, Controllers and Assemblies

ANSI S82.02.02 Electrical Equipment for Measurement, Control, and Laboratory Use

ANSI Z8.1 Commercial Laundry and Dry-cleaning Operations-Safety Requirements

ANSI Z21.1b Household Cooking Gas Appliances

ANSI Z21.19 Refrigerators Using Gas Fuel

ANSI Z21.22 Relief Valves and Automatic Gas Shutoff Devices for Hot Water Supply Systems

ANSI Z21.41 Quick-Disconnect Devices for Use with Gas Fuel

ANSI Z21.42 Gas-Fired Illuminating Appliances

ANSI Z21.45 Flexible Connectors of Other Than All-Metal Construction for Gas Appliances

ANSI Z21.54 Gas Hose Connectors for Portable Outdoor Gas-Fired Appliances

ANSI Z21.61 Gas-Fired Toilets

ANSI Z21.66 Automatic Vent Damper Devices for Use With Gas-Fired Appliances Electrically Operated

ANSI Z21.69 Connectors for Movable Gas Appliances

ANSI Z21.73 Portable Type Gas Camp Lights

ANSI Z21.74 Portable Refrigerators for Use With HD-5 Propane Gas

ANSI Z21.76 Gas-Fired Unvented Catalytic Room Heaters for Use With Liquefied Petroleum (LP) Gases

UL 14B Sliding Hardware for Standard, Horizontally Mounted Tin-Clad Fire Doors

UL 14C Swinging Hardware for Standard Tin-Clad Fire Doors Mounted Singly or In Pairs

UL 142 Steel Aboveground Tanks for Flammable and Combustible Liquids

UL 147 Hand-Held Torches for Fuel Gases

UL 155 Tests of Fire Resistance of Vault and File Room Doors

UL 305 Panic Hardware

UL 331 Strainers for Flammable Fluids and Anhydrous Ammonia

UL 555 Fire Dampers

UL 636 Holdup Alarm Units and Systems

UL 746A Polymeric Materials—Short Term Property Evaluations

UL 746B Polymeric Materials—Long Term Property Evaluations

UL 746E Polymeric Materials—Industrial Laminates, Filament Wound Tubing, Vulcanized Fibre, and Materials Used in Printed Wiring Boards

UL 896 Oil-Burning Stoves

UL 1010 Receptacle-Plug Combinations for Use in Hazardous (Classified) Locations

UL 1034 Burglary Resistant Electric Locking Mechanisms

UL 1088 Temporary Lighting Strings

UL 1241 Junction Boxes for Swimming Pool Lighting Fixtures

UL 1242 Intermediate Metal Conduit

UL 1610 Central-Station Burglar-Alarm Units

UL 1637 Home Health Care Signaling Equipment

UL 2200 Stationary Engine Generator Assemblies

FMRC3260 Flame Radiation Detectors for Automatic Fire Alarm Signaling

UL 603351 Safety of Household and Similar Electrical Appliances, Part 1; General Requirements

• This standard is approved for equipment or materials intended for use in commercial and industrial power system applications. This standard is not approved for equipment or materials intended for use in installations that are excluded from the provisions of Subpart S in 29 CFR 1910 by 1910.302(a)(2).

OSHA's recognition of ITSNA, or any NRTL, for a particular test standard is limited to equipment or materials (i.e., products) for which OSHA standards require third party testing and certification before use in the workplace. Consequently, any NRTL's scope of recognition excludes any product(s) that fall within the scope of a test standard, but for which OSHA standards do not require NRTL testing and certification.

Many of the UL test standards listed above also are approved as American National Standards by the American National Standards Institute (ANSI). However, for convenience, we use the designation of the standards developing organization (e.g., UL 1004) for the standard, as opposed to the ANSI designation (e.g., ANSI/UL 1004). Under our procedures, any NRTL recognized for an ANSI-approved test standard may use either the latest proprietary version of the test standard or the latest ANSI version of that standard. (Contact ANSI or the ANSI web site (http://www.ansi.org) and click “NSSN” to find out whether or not a test standard is currently ANSI-approved.)

Existing Conditions

Currently, OSHA imposes the following conditions on its recognition of ITSNA.These conditions would apply also to the recognition of the Lexington site. As mentioned in previous notices, these conditions apply solely to ITSNA's NRTL operations and are in addition to any other condition that OSHA normally imposes in its recognition of an organization as any NRTL. These conditions are listed in this notice mainly for information.

(1) ITSNA may perform safety testing for hazardous location products only at the specific ITSNA sites that OSHA has recognized, and that have been pre-qualified for such testing by the ITSNA Chief Engineer. In addition, all safety test reports for hazardous location products must undergo a documented review and approval at the Cortland testing facility by a test engineer qualified in hazardous location safety testing, prior to ITSNA's initial or continued authorization of the certifications covered by these reports.

(2) ITSNA may not test and certify any products for a client that is a manufacturer or vendor that is either owned in excess of 2% by ITSLtd or affiliated organizationally with ITSNA.

Preliminary Finding

ITSNA has submitted an acceptable request for expansion of its recognition. As previously mentioned, in connection with the request, OSHA has performed an on-site review (evaluation) of the ITSNA Lexington, Kentucky, facility (site). ITSNA has addressed the discrepancies noted by the assessors following the review, and the assessors included the resolution in the on-site review report (see Exhibit 40).

Following a review of the application file, the on-site review report, and other pertinent information, the NRTL Program staff has concluded that OSHA can grant to ITSNA the expansion of recognition to include the Lexington, Kentucky, site and the test standards listed above, subject to the conditions as noted. The staff therefore recommended to the Assistant Secretary that the application be preliminarily approved.

Based upon the recommendations of the staff, the Assistant Secretary has made a preliminary finding that Intertek Testing Services, NA, Inc., can meet the requirements as prescribed by 29 CFR 1910.7 for the expansion of recognition, subject to the above conditions. This preliminary finding, however, does not constitute an interim or temporary approval of the applications for ITSNA.

OSHA welcomes public comments, in sufficient detail, as to whether ITSNA has met the requirements of 29 CFR 1910.7 for expansion of its recognition as a Nationally Recognized Testing Laboratory. Your comments should consist of pertinent written documents and exhibits. To consider a comment, OSHA must receive it at the address provided above (see ADDRESSES), no later than the last date for comments (see DATES above). Should you need more time to comment, OSHA must receive your written request for extension at the address provided above no later than the last date for comments. You must include your reason(s) for any request for extension. OSHA will limit any extension to 30 days, unless the requester justifies a longer period. We may deny a request for extension if it is frivolous or otherwise unwarranted. You may obtain or review copies of ITSNA's request, the on-site review report, and all submitted comments, as received, by contacting the Docket Office, Room N2625, Occupational Safety and Health Administration, U.S. Department of Labor, at the above address. Docket No. NRTL1-89 contains all materials in the record concerning ITSNA's application.

The NRTL Program staff will review all timely comments and, after resolution of issues raised by these comments, will recommend whether to grant ITSNA's expansion request. The Assistant Secretary will make the final decision on granting the expansion, and in making this decision, may undertake other proceedings that are prescribed in Appendix A to 29 CFR Section 1910.7. OSHA will publish a public notice of this final decision in the Federal Register.

Signed at Washington, DC this 4th day of December, 2002.
John L. Henshaw,
Assistant Secretary.

[FR Doc. 03-122 Filed 1-3-03; 8:45 am]

BILLING CODE 4510-26-P